NATIONAL AERONAUTICS AND SPACE ADMINISTRATION

48 CFR Parts 1815, 1842, and 1852

NASA Federal Acquisition Regulation Supplement

AGENCY: National Aeronautics and Space Administration.

ACTION: Technical amendments.

SUMMARY: NASA is making technical amendments to the NASA FAR Supplement (NFS) to provide needed editorial changes.

DATES: Effective: April 26, 2016.

FOR FURTHER INFORMATION CONTACT: Manuel Quinones, NASA, Office of Procurement, Contract and Grant Policy Division, via email at manuel.quinones@nasa.gov, or telephone (202) 358-2143.

SUPPLEMENTARY INFORMATION:

I. Background

As part NASA's retrospective review of existing regulations, NASA is conducting periodic reviews of NASA FAR Supplement (NFS) to ensure the accuracy of information and guidance disseminated to the acquisition community This rule corrects typographical errors as well as inadvertent omissions from past rulemaking actions. A summary of changes follows:

• Section 1815.408-70(c) is revised to correct a typographical error.

• Subpart 1842.70 is revised to reinsert sections 1842.7002 and 1842.7003 inadvertently removed by amendatory instruction 2 of final rule 80 FR 52644 issued on September 1, 2015.

• Sections 1852.215-79, 1852.217-72, 1852.223-73 (ALTERNATE I), 1852.223-75, 1852.227-88, 1852.228-71, 1852.239-70, 1852.245-73, 1852.245-82, 1852.245-83, 1852.246-73 are revised to correct their prescription references.

List of Subjects in 48 CFR Parts 1815, 1842, and 1852

Government procurement.

Manuel Quinones,
NASA FAR Supplement Manager.

Accordingly, 48 CFR parts 1815, 1842, and 1852 are amended as follows:

1. The authority citation for parts 1815, 1842, and 1852 continues to read as follows:

Authority: 51 U.S.C. 20113(a) and 48 CFR chapter 1.

PART 1815—CONTRACTING BY NEGOTIATION

1815.408-70 [Amended]

2. Amend section 1815.408-70, in paragraph (c) by removing “1815.215-85” and adding “1852.215-85” in its place.

PART 1842—CONTRACT ADMINISTRATION AND AUDIT SERVICES

3. Add sections 1842-7002 and 1842-7003 to subpart 1842.70 to read as follows:

1842.7002 Travel outside of the United States.

The contracting officer shall insert the clause at 1852.242-71, Travel Outside of the United States, in cost-reimbursement solicitations and contracts where a contractor may travel outside of the United States and it is appropriate to require Government approval of the travel.

1842.7003 Emergency medical services and evacuation.

The contracting officer must insert the clause at 1852.242-78, Emergency Medical Services and Evacuation, in all solicitations and contracts when employees of the contractor are required to travel outside the United States or to remote locations in the United States.

PART 1852—SOLICITATION PROVISIONS AND CONTRACT CLAUSES

1852.215-79 [Amended]

4. Amend the introductory text of section 1852.215-79 by removing “1815.407-70(b)” and adding “1815.408-70(b)” in its place.

1852.217-72 [Amended]

5. Amend the introductory text of section 1852.217-72 by removing “1817.7302(b)” and adding “1817.7002(b)” in its place.

1852.223-73 [Amended]

6. Amend section 1852.223-73, in ALTERNATE I, by removing “1823.7001(c)(1)” and adding “1823.7001(c)” in its place.

1852.223-75 [Amended]

7. Amend the introductory text of section 1852.223-75 by removing “1823.7001(d)” and adding “1823.7001(e)(1)” and in the introductory text of ALTERNATE I removing “1823.7001(d)(2)” and adding “1823.7001(e)(2)”in their place.

1852.227-88 [Amended]

8. Amend the introductory text of section 1852.227-88 by removing “1827.409(m)” and adding “1827.409(m)(1)” in its place.

1852.228-71 [Amended]

9. Amend the introductory text of section 1852.228-71 by removing “1828.311-2” and adding “1828.311-270(a)” in its place.

1852.239-70 [Amended]

10. Amend the introductory text of section 1852.239-70 by removing “1839.106-70(a)(1)” and adding “1839.107-70(a)(1)” and in the introductory text of ALTERNATE I removing “1839.7008(b)” and adding “1839.107-70(a)(2)”in their place.

1852.245-73 [Amended]

11. Amend the introductory text of section 1852.245-73 by removing “1845.106-70(d)” and adding “1845.107-70(d)” in its place.

1852.245-82 [Amended]

12. Amend the introductory text of section 1852.245-82 by removing “1845.106-70(m)” and adding “1845.107-70(m)” in its place.

1852.245-83 [Amended]

13. Amend the introductory text of section 1852.245-83 by removing “1845.106-70(n)” and adding “1845.107-70(n)” in its place.

1852.246-73 [Amended]

14. Amend the introductory text of section 1852.246-73 by removing “1845.370(b)” and adding “1846.370” in its place.

[FR Doc. 2016-09588 Filed 4-25-16; 8:45 am]

BILLING CODE 7510-13-P